DEPARTMENT OF HOMELAND SECURITY

Federal Emergency Management Agency

[Docket ID FEMA-2014-0002; Internal Agency Docket No. FEMA-B-1429]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1429, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Otero County, New Mexico, and Incorporated Areas
Maps Available for Inspection Online at: http://www.fema.gov/preliminaryfloodhazarddata
Unincorporated Areas of Otero County | Otero County Administration Building, 1101 New York Avenue, Room 105, Alamogordo, NM 88310.
Village of Tularosa | Otero County Administration Building, 1101 New York Avenue, Room 105, Alamogordo, NM 88310.
Greene County, Pennsylvania (All Jurisdictions)
Maps Available for Inspection Online at: http://www.fema.gov/preliminaryfloodhazarddata
Borough of Carmichaels | Borough Building, 100 West George Street, Carmichaels, PA 15320.
Borough of Clarksville | Borough Office, 300 Factory Street, Clarksville, PA 15322.
Borough of Greensboro | Borough Office, 405 Front Street, Greensboro, PA 15338.
Borough of Rices Landing | Borough Municipal Building, 137 Main Street, Rices Landing, PA 15357.
Borough of Waynesburg | Borough Office, 90 East High Street, Waynesburg, PA 15370.
Township of Aleppo | Aleppo Township Municipal Building, 815 Aleppo Road, New Freeport, PA 15352.
Township of Center | Center Township Municipal Building, 100 Municipal Drive, Rogersville, PA 15359.
Township of Cumberland | Cumberland Township Municipal Building, 100 Municipal Road, Carmichaels, PA 15320.
Township of Dunkard | Dunkard Township Office, 370 North Moreland Street, Bobtown, PA 15315.
Township of Franklin | Franklin Township Municipal Building, 568 Rolling Meadows Road, Waynesburg, PA 15370.
Township of Freeport | Freeport Township Office, 773 Golden Oaks Road, New Freeport, PA 15352.
Township of Gilmore | Gilmore Township Municipal Building, 181 Hero Road, New Freeport, PA 15352.
Township of Gray | Gray Township Municipal Building, 201 Stringtown Road, Graysville, PA 15337.
Township of Greene | Greene Township Office, 243 Garards Ford Road, Garards Fort, PA 15334.
Township of Jackson | Jackson Township Building, 104 Tunnel Road, Holbrook, PA 15341.
Township of Jefferson | Jefferson Township Municipal Building, 173 Goslin Road, Rices Landing, PA 15357.
Township of Monongahela | Monongahela Township Office Building, 128 Maple Ridge Road, Greensboro, PA 15338.
Township of Morgan | Morgan Township Municipal Building, 1019 3rd Street Extension, Mather, PA 15346.
Township of Morris | Morris Township Municipal Building, 1317 Browns Creek Road, Sycamore, PA 15364.
Township of Perry | Perry Township Municipal Building, 799 Big Shannon Run Road, Mount Morris, PA 15349.
Township of Richhill | Richhill Township Municipal Building, 109 Municipal Lane, Wind Ridge, PA 15380.
Township of Springhill | Springhill Township Municipal Building, 268 Windy Gap Road, Aleppo, PA 15310.
Township of Washington | Washington Township Municipal Office, 112 Municipal Lane, Prosperity, PA 15329.
Township of Wayne | Wayne Township Municipal Building, 132 Spraggs Road, Spraggs, PA 15362.
Township of Whiteley | Whiteley Township Municipal Building, 1426 Kirby Road, Waynesburg, PA 15370.

(Catalog of Federal Domestic Assistance No. 97.022, “Flood Insurance.”)

Dated: July 11, 2014.
Roy E. Wright,
Deputy Associate Administrator for Mitigation, Department of Homeland Security, Federal Emergency Management Agency.

[FR Doc. 2014-18273 Filed 7-31-14; 8:45 am]

BILLING CODE 9110-12-P